ENVIRONMENTAL PROTECTION AGENCY

40 CFR Part 271

[FRL-6921-6]

Arizona: Final Authorization of State Hazardous Waste Management Program Revisions

AGENCY: Environmental Protection Agency (EPA).

ACTION: Withdrawal of Immediate Final Rule.

SUMMARY: We are withdrawing the immediate final rule for Arizona, the Final Authorization of State Hazardous Waste Management Program Revisions published on October 27, 2000, which approved revisions to Arizona's hazardous waste rules. We stated in the immediate final rule that if we received comments that oppose authorization of the revision, we would publish a timely withdrawal in the Federal Register. Subsequently, we received comments that oppose the authorization. We will address the comments received during the comment period in a subsequent final action based on the proposed rule also published on October 27, 2000, at 65 FR 64403.

DATES: As of December 22, 2000, we withdraw the immediate final rule published on October 27, 2000, at 65 FR 64369.

FOR FURTHER INFORMATION CONTACT: Lisa McClain-Vanderpool, U.S. EPA, Waste Management Division, 75 Hawthorne Street (mailcode WST-3) San Francisco, CA 94105.

SUPPLEMENTARY INFORMATION: Because we received comments that oppose this authorization, we are withdrawing the immediate final rule for Arizona, the Final Authorization of State Hazardous Waste Management Program Revisions published on October 27, 2000, which approved revisions to Arizona's hazardous waste rules. We stated in the immediate final rule that if we received comments that oppose authorization of the revision, we would publish a timely notice of withdrawal in the Federal Register. Subsequently, we received comments that oppose the authorization. We will address the comments received during the comment period in a subsequent final action based on the proposed rule also published on October 27, 2000, at 65 FR 64403. We will not provide for additional public comment during the final action.

Laura Yoshii,
Deputy Regional Administrator, Region 9.

[FR Doc. 00-32668 Filed 12-21-00; 8:45 am]

BILLING CODE 6560-50-P